DEPARTMENT OF ENERGY

Federal Energy Regulatory Commission

[Docket No. RP00-420-001]

Southern Natural Gas Company; Notice of Proposed Changes in FERC Gas Tariff

September 7, 2000.

Take notice that on August 31, 2000, Southern Natural Gas Company (Southern) tendered for filing as part of its FERC Gas Tariff, Seventh Revised Volume No. 1, the following tariff sheets to become effective March 27, 2000:

1st Sub. Fourth Revised Sheet No. 169

1st Sub. Fourth Revised Sheet No. 177

Sixth Revised Sheet No. 275

Southern states that the purpose of this filing is to comply with the Commission's letter order dated August 21, 2000 in the above-referenced docket. Such letter order generally approved Southern's tariff filing made in compliance with Order No. 637 to remove the price cap provisions applicable to short-term releases under its capacity release provisions of the General Terms and Conditions of its Tariff. Such letter order required Southern to make a compliance filing (i) to reflect properly the term of the price cap waiver; (ii) to revise its tariff to provide that the price cap waiver applies to releases of less than one year; and (iii) to revise its tariff to specify that releases of one year or more at the maximum rate and term are eligible as nonposted, prearranged releases.

Southern states that copies of the filing will be served upon its shippers and interested state commissions.

Any person desiring to protest this filing should file a protest with the Federal Energy Regulatory Commission, 888 First Street, NE., Washington, DC 20426, in accordance with Section 385.211 of the Commission's Rules and Regulations. All such protests must be filed in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-23447 Filed 9-12-00; 8:45 am]

BILLING CODE 6717-01-M